DEPARTMENT OF AGRICULTURE

Forest Service

Medford Aspen Project; Chequamegon-Nicolet National Forest, Taylor County, WI

AGENCY: Forest Service, USDA

ACTION: Revised notice of intent to prepare an environmental impact statement.

SUMMARY: The USDA Forest Service, Chequamegon-Nicolet National Forest, Medford-Park Falls Ranger District intends to prepare an environmental impact statement (EIS) to document the analysis and disclose the environmental effects of proposed land management activities, and corresponding alternatives within the Medford Aspen project area. This notice revises the “responsible official” and updates the expected statement dates.

DATES: The draft environmental impact statement is expected in February 2008 and the final environmental impact statement is expected in May 2008.

Responsible Official: This Notice also revises the responsible official from Chequamegon-Nicolet National Forest, Forest Supervisor to: Bob Hennes, Medford-Park Falls District Ranger, Chequamegon-Nicolet National Forest, Park Falls, Wisconsin.

ADDRESSES: Send written comments to Bob Hennes, c/o Jane Darnell, Medford-Park Falls Ranger District, 850 N. 8th St., Medford, Wisconsin 54451. Send electronic comments to: jdarnell01@fs.fed.us with a subject line that reads “Medford Aspen Project”.

FOR FURTHER INFORMATION CONTACT: Jane Darnell, Project Leader, Medford-Park Falls Ranger District, 850 N. 8th St., Medford, WI 54451: telephone 715-748-4875 (or TTY: 711, National Relay System), e-mail jdarnell01@fs.fed.us. Another means of obtaining information is to visit the Medford Aspen Web site at: http://www.fs.fed.us/r9/cnnf/natres/eis/mpf/medford_aspen/index.html.

SUPPLEMENTARY INFORMATION: The original notice of intent to prepare the Medford Aspen environmental impact statement was published in the Federal Register on June 26, 2007 (Vol. 72, No. 122, pages 35029-35030, Tuesday, June 26, 2007/Notices).

(Authority: 40 CFR 1501.7 and 1508.22; Forest Service Handbook 1909.15, Section 21).

Dated: November 28, 2007.
Jeanne Higgins,
Forest Supervisor.

[FR Doc. E7-23650 Filed 12-5-07; 8:45 am]

BILLING CODE 3410-11-P